DEPARTMENT OF STATE

22 CFR Part 121

[Public Notice 5867]

Amendment to the International Traffic in Arms Regulations: United States Munitions List

AGENCY: Department of State.

ACTION: Final rule.

SUMMARY: The Department of State, in consultation with the Departments of Defense and Commerce, is amending the text of the United States Munitions List (USML), Category XV—Spacecraft Systems and Associated Equipment to clarify the coverage and to alter one of the five performance characteristics that define radiation-hardened microelectronic circuits that are subject to the licensing jurisdiction of the International Traffic in Arms Regulations (ITAR).

DATES: Effective Date: This rule is effective July 17, 2007.

ADDRESSES: Interested parties are invited to submit comments at any time by the following methods:

• Mail: Department of State, Directorate of Defense Trade Controls, Office of Defense Trade Controls Policy, ATTN: Regulatory Change, USML Part 121, Category XV, 12th Floor, SA-1, Washington DC 20522-0112.

• E-mail: DTCPResponseTeam@state.gov with the subject line: USML Review—Category XV.

Persons with access to the Internet may also view this notice by going to the regulations.gov Web site at: http://www.regulations.gov/index.cfm. Comments will be accepted at any time.

FOR FURTHER INFORMATION CONTACT: Mr. Stephen Tomchik, Office of Defense Trade Controls Policy, Department of State, Telephone (202) 663-2799 or Fax (202) 261-8199. ATTN: Regulatory Change, USML Part 121, Category XV.

SUPPLEMENTARY INFORMATION: The specific results of the Department of State-led interagency review are as follows:

1. Category XV. One substantive change is made to the characteristics defining radiation hardened microelectronic circuits in paragraph (d). The exponential measure describing the single event upset rate described in (d)(4) is changed from 1×10⁻⁷ to 1×10⁻¹⁰. This change reflects the minimal performance standard for space applications, and addresses the outcome of evolving refinements in the manufacturing process for these circuits.

2. Several additional textual clarifications are made to the five characteristics. The word “threshold” is inserted in (d)(2) and (d)(4) for purposes of technical clarity. In (d)(3) the insertion of the expression “1 MeV Equivalent” describes the energetic activity of neutrons. Finally, in (d)(4) an expression is added to clarify the representative environment for performance in space.

3. It is stressed that any microelectronic circuit that is specifically designed, developed, configured, adapted, or modified for a military or space application, to include its incorporation into any defense article described on the United States Munitions List (USML) remains subject to the licensing requirements of the International Traffic in Arms Regulations (ITAR).

4. Manufacturers and exporters are responsible for compliance with the controls of this subchapter. Consequently, the Department of State advises that companies must be able to demonstrate, either through testing, statistical analyses, design analyses, or other means, whether semiconductors meet or fail to meet the parameters established in USML Category XV(d). Records of such testing, analyses, or other means must be retained and made available as appropriate to demonstrate compliance.

Regulatory Analysis and Notices

Administrative Procedure Act

This amendment involves a foreign affairs function of the United States and, therefore, is not subject to the procedures required by 5 U.S.C. 553 and 554.

Regulatory Flexibility Act

This rule does not require analysis under the Regulatory Flexibility Act.

Unfunded Mandates Act of 1995

This rule does not require analysis under the Unfunded Mandates Reform Act.

Small Business Regulatory Enforcement Fairness Act of 1996

This amendment has been found not to be a major rule within the meaning of the Small Business Regulatory Enforcement Fairness Act of 1996. It will not have substantial direct effects on the States, the relationship between the National Government and the States, or on the distribution of power and responsibilities among the various levels of government.

Executive Orders 12372 and 13132

It is determined that this rule does not have sufficient federalism implications to warrant application of the consultation provisions of Executive Orders 12372 and 13132.

Executive Order 12866

This amendment is exempt from review under Executive Order 12866, but has been reviewed internally by the Department of State to ensure consistency with the purposes thereof.

Paperwork Reduction Act

This rule does not impose any new reporting or recordkeeping requirements subject to the Paperwork Reduction Act, 44 U.S.C. Chapter 35.

List of Subjects in 22 CFR Part 121

Arms and munitions, Exports.

Accordingly, for the reasons set forth above, Title 22, Chapter I, Subchapter M, part 121 is amended as follows:

PART 121—UNITED STATES MUNITIONS LIST

1. The authority citation for part 121 continues to read as follows:

Authority: Sec. 2, 38, and 71, Pub. L. 90-629, 90 Stat. 744 (22 U.S.C. 2752, 2278, 2797); E.O. 11958, 42 FR 4311; 3 CFR, 1977 Comp. p. 79; 22 U.S.C. 2658; Pub. L. 105-261, 112 Stat. 1920.

2. In § 121.1, paragraph (c), Category XV—Spacecraft Systems and Associated Equipment is amended by revising paragraph (d) to read as follows:

§ 121.1 General. The United States Munition List.

* * * * *

Category XV—Spacecraft Systems and Associated Equipment

* * * * *

(d) Radiation-hardened microelectronic circuits that meet or exceed all five of the following characteristics:

(1) A total dose of 5×10⁵ Rads (Si);

(2) A dose rate upset threshold of 5×10⁸ Rads (Si)/sec;

(3) A neutron dose of 1×10¹⁴ n/cm² (1 MeV equivalent);

(4) A single event upset rate of 1×10⁻¹⁰ errors/bit-day or less, for the CREME96 geosynchronous orbit, Solar Minimum Environment;

(5) Single event latch-up free and having a dose rate latch-up threshold of 5×10⁸ Rads (Si).

* * * * *

Dated: July 11, 2007.
Frank J. Ruggiero,
Acting Deputy Assistant Secretary, Political Military Affairs, Department of State.

[FR Doc. E7-13826 Filed 7-16-07; 8:45 am]

BILLING CODE 4710-25-P